DEPARTMENT OF AGRICULTURE

Animal and Plant Health Inspection Service

[Docket No. APHIS-2022-0001]

Notice of Request for Extension of Approval of an Information Collection; Control of African Swine Fever; Restrictions on the Movement of Swine Products and Swine Byproducts From Puerto Rico and the U.S. Virgin Islands

AGENCY: Animal and Plant Health Inspection Service, USDA.

ACTION: Extension of approval of an information collection; comment request.

SUMMARY: In accordance with the Paperwork Reduction Act of 1995, this notice announces the Animal and Plant Health Inspection Service's intention to request an extension of approval of an information collection associated with control of African swine fever and restrictions on the movement of swine products and swine byproducts from Puerto Rico and the U.S. Virgin Islands.

DATES: We will consider all comments that we receive on or before May 2, 2022.

ADDRESSES: You may submit comments by either of the following methods:

• Federal eRulemaking Portal: Go to www.regulations.gov. Enter APHIS-2022-0001 in the Search field. Select the Documents tab, then select the Comment button in the list of documents.

• Postal Mail/Commercial Delivery: Send your comment to Docket No. APHIS-2022-0001, Regulatory Analysis and Development, PPD, APHIS, Station 3A-03.8, 4700 River Road Unit 118, Riverdale, MD 20737-1238.

Supporting documents and any comments we receive on this docket may be viewed at www.regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the control of African swine fever and restrictions on the movement of swine products and swine byproducts, contact Dr. Dawn Hunter, Staff Trade Policy Advisor, Strategy and Policy, VS APHIS, 4700 River Road Unit 39, Riverdale, MD 20737; (301) 851-3333; Dawn.K.Hunter@usda.gov. For information on the information collection process, contact Mr. Joseph Moxey, APHIS' Paperwork Reduction Act Coordinator, at (301) 851-2483; joseph.moxey@usda.gov.

SUPPLEMENTARY INFORMATION: Title: Control of African Swine Fever; Restrictions on the Movement of Swine Products and Swine Byproducts From Puerto Rico and the U.S. Virgin Islands.

OMB Control Number: 0579-0480.

Type of Request: Extension of approval of an information collection.

Abstract: Under the Animal Health Protection Act (7 U.S.C. 8301 et seq.), the Secretary of the U.S. Department of Agriculture (USDA) is authorized to protect the health of the livestock, poultry, and aquaculture populations in the United States by preventing the introduction and interstate spread of serious diseases and pests of livestock, poultry, and aquaculture, and for eradicating such diseases and pests from the United States, when feasible. Within the USDA, this authority and mission is delegated to the Animal and Plant Health Inspection Service (APHIS).

Within APHIS, Veterinary Services (VS) is tasked with, among other things, preventing foreign animal disease outbreaks in the United States, and monitoring, controlling, and eliminating a disease outbreak should one occur. In the past several years, there have been significant worldwide outbreaks of African swine fever (ASF). ASF is a highly contagious and deadly viral disease affecting domestic and feral (wild) pigs. The disease has not been detected in the United States; however, APHIS is committed to working with State and industry partners to keep the disease out of the country.

The Dominican Republic is currently reporting a significant outbreak of ASF. While ASF is not known to occur in Puerto Rico or the U.S. Virgin Islands, they are in proximity to the Dominican Republic. Frequent passenger travel and international mail shipments occur between the Dominican Republic and Puerto Rico and the U.S. Virgin Islands, as well as frequent small-scale commercial agricultural trade. Thus, APHIS identified several pathways for the possible introduction of ASF from the Dominican Republic to Puerto Rico or the U.S. Virgin Islands. Moreover, there are known commercial and feral pig populations in both territories, and there were no restrictions on the interstate movement of live swine, swine germplasm, swine products, and swine byproducts from Puerto Rico or the U.S. Virgin Islands into the continental United States. Accordingly, APHIS suspended interstate movement of live swine, swine germplasm, and processed swine products and byproducts through issuance of a Federal Order (DA-2021-0002) ¹ on September 17, 2021. In situations where a disease risk is sufficiently severe and fast-moving so that the regular regulatory process cannot provide adequate relief, APHIS employs Federal Orders to set trade restrictions quickly to control, eradicate, or prevent a disease threat.

¹ https://www.aphis.usda.gov/animal_health/downloads/fed-order-suspend-swine-from-pr-vi.pdf.

Since the issuance of the Federal Order, APHIS has established sufficient mitigations to allow the movement of certain swine products and swine byproducts under specified conditions that mitigate the risk of spreading ASF through interstate commerce. As a result, on December 2, 2021, APHIS issued a Federal Order (DA-2021-0003) ² to allow interstate movement of certain swine products and byproducts from Puerto Rico and the U.S. Virgin Islands under certain conditions. To certify compliance with this Federal Order and restriction guidelines for the intestate movement of swine products and byproducts from Puerto Rico and the U.S. Virgin Islands, commercial producers must meet the requirements as listed in the Federal Order or complete a VS Form 16-3, an application for a permit to import or transport controlled material or organisms or vectors.

² https://www.aphis.usda.gov/publications/animal_health/fo-asf-signed.pdf.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1.5 hours per response.

Respondents: Commercial producers of swine products and byproducts and State animal health officials.

Estimated annual number of respondents: 22.

Estimated annual number of responses per respondent: 2.

Estimated annual number of responses: 40.

Estimated total annual burden on respondents: 60 hours. (Due to averaging, the total annual burden hours may not equal the product of the annual number of responses multiplied by the reporting burden per response.)

All responses to this notice will be summarized and included in the request for OMB approval. All comments will also become a matter of public record.

Done in Washington, DC, this 23rd day of February 2022.
Anthony Shea,
Administrator, Animal and Plant Health Inspection Service.

[FR Doc. 2022-04207 Filed 2-28-22; 8:45 am]

BILLING CODE 3410-34-P